DEPARTMENT OF COMMERCE

National Oceanic and Atmospheric Administration

[I.D. 053105E]

New England Fishery Management Council; Public Meeting

AGENCY: National Marine Fisheries Service (NMFS), National Oceanic and Atmospheric Administration (NOAA), Commerce.

ACTION: Notice of a public meeting.

SUMMARY: The New England Fishery Management Council (Council) will hold a three-day Council meeting on June 21-23, 2005, to consider actions affecting New England fisheries in the exclusive economic zone (EEZ).

DATES: The meeting will be held on Tuesday, Wednesday and Thursday, June 21-23, 2005 beginning at 8 a.m. each day.

ADDRESSES: The meeting will be held at the Eastland Park Hotel, 157 High Street, Portland, ME 04101; telephone: (207) 775-5411.

Council address: to the New England Fishery Management Council, 50 Water Street, Mill 2, Newburyport, MA 01950.

FOR FURTHER INFORMATION CONTACT: Paul J. Howard, Executive Director, New England Fishery Management Council; (978) 465-0492.

SUPPLEMENTARY INFORMATION:

Tuesday, June 21, 2005

Following introductions, the Council will receive reports from the Council Chairman and Executive Director, the NMFS Regional Administrator, Northeast Fisheries Science Center and Mid-Atlantic Fishery Management Council liaisons, NOAA General Counsel and representatives of the U.S. Coast Guard, NMFS Enforcement and the Atlantic States Marine Fisheries Commission. There also will be an update on the New England Fleet Visioning Project. During the morning session, the Council will receive a briefing on a series of advisory panel meetings concerning development of an New England Fishery Management Council (NEFMC) Conservation and Management Policy. The policy, which the Council will consider and could approve, concerns issues related to capacity, use of input/output controls and resource allocation issues. The Magnuson-Stevens Act Reauthorization Committee will provide recommendations for Council approval concerning positions on changes to the Act. The rest of the day will be spent on proposed Amendment 1 to the Herring Fishery Management Plan (FMP). Members will review and consider management alternatives to be included in the associated Draft Supplemental Environmental Impact Statement, select preferred alternatives, and approve the document for public hearings.

Wednesday, June 22, 2005

During the Wednesday morning session, the Council will review issues identified at recent port meetings and related to fishery regulations and safety at sea. Follow up actions may be recommended. An open public comment period will be available for items not listed on the agenda, followed by a report from the chairman of the Transboundary Management Guidance Committee. That report will include a review of discussions about an alternative to the current harvest strategy for haddock. There also will be a report from the Scientific and Statistical Committee about an alternative model to assess groundfish stocks. The Council will then take initial action on Framework Adjustment 42 to the Northeast Multispecies FMP by formally identifying what measures will be analyzed and further considered in the adjustment. NOAA Fisheries scientists will report to the Council on invasive colonial tunicates now found on Georges Bank. At the end of the day final action on proposed Framework Adjustment 1 to the Spiny Dogfish FMP will be considered. Measures will address a modification to the plan that would allow multi-year specifications to be set for the fishery. At the end of the day the Council will discuss and possibly approve a motion to give sole management authority for spiny dogfish to the Mid-Atlantic Council and assume sole management authority for monkfish.

Thursday, June 23, 2005

The morning session will begin with a report from the Council's Research Steering Committee concerning their review of several cooperative research project final reports. There will be summary of the most recent activities currently underway and associated with development of essential fish habitat (EFH) Omnibus Amendment 2 as well as a review of the outcome of the NEFMC's Marine Protected Areas Education and Outreach Workshops. The last item on the agenda will address Framework Adjustment 18 to the Sea Scallop Fishery Management Plan. This will include a report on 2005 assessment updates and forecasts. There will be consideration of a recommendation for emergency action to end possible overfishing of the scallop resource and approval of comments on proposed sea turtle conservation measures.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: May 31, 2005.
Emily Menashes,
Acting Director, Office of Sustainable Fisheries, National Marine Fisheries Service

[FR Doc. E5-2865 Filed 6-3-05; 8:45 am]

BILLING CODE 3510-22-S